POSTAL RATE COMMISSION

[Docket No. MC2005-1; Order No. 1425]

Experimental Premium Forwarding Service

AGENCY: Postal Rate Commission.

ACTION: Notice and order.

SUMMARY: This document announces a case involving a proposed two-year experiment that will test demand for a new Premium Forwarding Service (PFS). This service entails periodic reshipment of a customer's mail from a permanent address to a temporary address. Additional fees are involved. Conducting an experiment will allow the Postal Service to determine whether PFS should be made available on a permanent basis.

DATES: See SUPPLEMENTARY INFORMATION for dates.

ADDRESSES: Submit comments electronically via the Commission's Filing Online system at http://www.prc.gov. Hard copy submissions, when allowed, should be sent to the attention of Steven W. Williams, Secretary of the Commission, 1333 H Street NW., Suite 300, Washington, DC 20268-0001.

FOR FURTHER INFORMATION CONTACT: Stephen L. Sharfman, General Counsel, at 202-789-6818.

SUPPLEMENTARY INFORMATION: Notice is hereby given that on November 19, 2004, the Postal Service filed a request with the Postal Rate Commission pursuant to section 3623 of the Postal Reorganization Act, 39 U.S.C. 101 et seq., for a recommended decision on a proposed experimental PFS.¹ The Postal Service proposes to implement the requested experimental service through additions to the Domestic Mail Classification Schedule (DMCS) and associated new fees. The request includes attachments and is supported by the testimony of four witnesses and a library reference. It is on file in the Commission's docket room for inspection during regular business hours and is available on the Commission's Home page at http://www.prc.gov.

¹ Request of the United States Postal Service for a Recommended Decision on Experimental Premium Forwarding Service, November 19, 2004 (Request).

Description of the request. The proposed experiment would introduce a new PFS, under which the Postal Service would offer to reship periodically all of a customer's incoming mail from a permanent address to a temporary address to which the customer has moved. For this service, the Postal Service would charge a $10.00 enrollment fee plus a fixed per-shipment charge of $10.00. Such PFS shipments would be sent via Priority Mail service once a week to the customer's temporary address. The Postal Service anticipates that the experimental PFS service will be an attractive supplement to existing options for customers who relocate temporarily because it would satisfy demand for service features not currently available through those options.

Experimental designation. The Postal Service seeks consideration of its proposal under the Commission's expedited rules of practice and procedure applicable to experimental mail classification changes, 39 CFR 3001.67 through 3001.67d. In support of this approach, it cites the need to collect currently unavailable data to test its assumptions about the projected average weight and distance of PFS shipments, as well as its estimates of demand for the service. According to the Service, a two-year experimental trial of PFS service would enable it to collect, aggregate and analyze such data, so that a request for a permanent classification change can be prepared if the data support such a request. Further, the Service anticipates that a two-year experiment will allow customers sufficient time to determine whether PFS service meets their demands.

Compliance statement and conditional motion for waiver. In a pleading ² filed contemporaneously with its Request, the Postal Service describes its approach to satisfying the filing requirements contained in pertinent provisions of the rules of practice, and asks the Commission to accept that approach for the purposes of this proceeding. Generally, the Postal Service states that it developed certain materials specifically for the PFS proposal, but also supplemented this information with documentation it submitted in the most recently concluded omnibus rate proceeding (Docket No. R2001-1), as well as with material it periodically submits to the Commission. The Service believes that incorporation of these supplemental materials meets most of the specific filing requirements of the rules of practice. Alternatively, if the Commission concludes that the incorporated materials are insufficient, the Postal Service moves for waiver of the pertinent provisions.

² Statement of the United States Postal Service Concerning Compliance with Filing Requirements and Conditional Motion for Waiver, November 19, 2004.

Proposed settlement procedures. The Postal Service's November 19, 2004, filing also included a request for establishment of settlement procedures in this proceeding.³ The Service states that the proposed experimental PFS classification is simple, is supported by straightforward testimony, and would be of a limited scope and duration. The Service also opines that the proposal's benefits to customers, its minor financial impact, and the fact that all its costs are volume-variable may increase the likelihood of settlement. In view of this prospect, the Postal Service asks that the Commission facilitate a possible settlement by making its hearing room available for a settlement conference prior to the prehearing conference in this docket; appoint its lead counsel to serve as settlement coordinator; and thereby provide an opportunity for its counsel to report on the likelihood of settlement during the prehearing conference.

³ United States Postal Request for Establishment of Settlement Procedures, November 19, 2004.

Further procedures. Those wishing to be heard in this matter may choose from among the modes of participation specified in sections 20 through 20b of the Commission's rules of practice (39 CFR 3001.20, -20a and -20b). Notices of intervention under sections 20 and 20a will be due on December 20, 2004, and shall be filed using the Filing Online system at the Commission's Web site (http://www.prc.gov) unless a waiver is obtained for hardcopy filing. See sections 9(a) and 10(a) of the rules (39 CFR 3001.9a and 10a). Notices should indicate whether participation will be on a full or limited basis. Comments pursuant to section 20b may either be filed online as described in section 20b(a) or submitted as a hardcopy letter to the Secretary of the Commission, Steven W. Williams, 1333 H Street, NW., Suite 300, Washington, DC 20268-0001.

Experimental Status

At this stage of the proceeding, the Commission has docketed the instant filing as an experimental case for administrative purposes. Formal status as an experiment under Commission rules 67-67d, which the Service makes clear it seeks for this Request, is based on an evaluation of factors such as the proposal's novelty, magnitude, ease or difficulty of data collection, and duration. A final determination regarding the appropriateness of accepting the filing as an experimental case and application of Commission rules 67-67d will not be made until participants have had an adequate opportunity to comment. Participants are invited to file comments on this matter by December 20, 2004.

Section 67a of the rules specifies procedures for the limitation of issues in considering requests that involve classification changes that are properly designated as experimental. Pursuant to section 67a(b) [39 CFR 3001.67a(b)], participants are directed to submit statements in their notices of intervention indicating whether they seek a hearing and, if so, to identify with particularity any genuine issues of material facts believed to warrant such a hearing.

The Commission grants the Service's Request for Establishment of Settlement Procedures and appoints Postal Service lead counsel as settlement coordinator. In this capacity, counsel for the Service shall file periodic reports on the status of settlement discussions, with the first report to be submitted orally during the prehearing conference scheduled below. The Commission further authorizes the settlement coordinator to hold settlement and/or technical conferences, at the convenience of participants, anytime between January 3 and 6, 2005.

Prehearing conference. A prehearing conference will be held in this docket on January 7, 2005. Participants shall be prepared to address whether there are issues of material fact requiring a hearing in this matter, in order to inform the Commission's determination regarding the limitation of issues pursuant to section 67a(c) of the rules of practice [39 CFR 3001.67a(c)].

Public participation. In conformance with section 3624(a) of title 39, the Commission designates Shelley S. Dreifuss, director of the Commission's Office of the Consumer Advocate (OCA), to represent the interests of the general public in this proceeding. Pursuant to this designation, Ms. Dreifuss will direct the activities of Commission personnel assigned to assist her and, upon request, will supply their names for the record. Neither Ms. Dreifuss nor any of the assigned personnel will participate in or provide advice on any Commission decision in this proceeding.

Ordering Paragraphs

It is ordered:

1. The Commission establishes Docket No. MC2005-1, Experimental Premium Forwarding Service, to consider the Postal Service Request described in the body of this order.

2. The Commission will sit en banc in this proceeding.

3. The deadline for filing notices of intervention is December 20, 2004.

4. Notices of intervention shall indicate whether the participant seeks a hearing and identify with particularity any genuine issues of material fact that warrant a hearing.

5. The deadline for answers to the Statement of the United States Postal Service Concerning Compliance with Filing Requirements and Conditional Motion for Waiver, filed November 19, 2004, is December 20, 2004.

6. The Commission grants the United States Postal Service Request for Establishment of Settlement Procedures, November 19, 2004, under the terms described in the body of this ruling.

7. The Commission appoints Postal Service lead counsel to serve as settlement coordinator in this proceeding.

8. The deadline for comments on the Postal Service's request for treatment of its Request as experimental under Commission rules 67-67d is December 20, 2004.

9. The Commission will make its hearing room available for settlement and/or technical conferences during the period of January 3 through 6, 2005.

10. A prehearing conference will be held January 7, 2005 at 10 a.m. in the Commission's hearing room.

11. Shelley S. Dreifuss, Director of the Commission's Office of the Consumer Advocate, is designated to represent the interests of the general public in this proceeding.

12. The Secretary shall arrange for publication of this notice and order in the Federal Register.

By the Commission.
Steven W. Williams,
Secretary.

[FR Doc. 04-26354 Filed 11-29-04; 8:45 am]

BILLING CODE 7710-EW-P